DEPARTMENT OF ENERGY

Federal Energy Regulatory Commission

Combined Notice of Filings #1

Take notice that the Commission received the following exempt wholesale generator filings:

Docket Numbers: EG18-33-000.

Applicants: Gregory Power Partners LLC.

Description: Notice of Self-Certification of Exempt Wholesale Generator Status of Gregory Power Partners LLC.

Filed Date: 1/26/18.

Accession Number: 20180126-5190.

Comments Due: 5 p.m. ET 2/16/18.

Docket Numbers: EG18-34-000.

Applicants: Montpelier Generating Station, LLC.

Description: Notice of Self-Certification of Exempt Wholesale Generator Status of Montpelier Generating Station, LLC.

Filed Date: 1/26/18.

Accession Number: 20180126-5191.

Comments Due: 5 p.m. ET 2/16/18.

Docket Numbers: EG18-35-000.

Applicants: Monument Generating Station, LLC.

Description: Notice of Self-Certification of Exempt Wholesale Generator Status of Monument Generating Station, LLC.

Filed Date: 1/26/18.

Accession Number: 20180126-5197.

Comments Due: 5 p.m. ET 2/16/18.

Docket Numbers: EG18-36-000.

Applicants: O.H. Hutchings CT, LLC.

Description: Notice of Self-Certification of Exempt Wholesale Generator Status of O.H. Hutchings CT, LLC.

Filed Date: 1/26/18.

Accession Number: 20180126-5198.

Comments Due: 5 p.m. ET 2/16/18.

Docket Numbers: EG18-37-000.

Applicants: Sidney, LLC.

Description: Notice of Self-Certification of Exempt Wholesale Generator Status of Sidney, LLC.

Filed Date: 1/26/18.

Accession Number: 20180126-5201.

Comments Due: 5 p.m. ET 2/16/18.

Docket Numbers: EG18-38-000.

Applicants: Tait Electric Generating Station, LLC.

Description: Notice of Self-Certification of Exempt Wholesale Generator Status of Tait Electric Generating Station, LLC.

Filed Date: 1/26/18.

Accession Number: 20180126-5203.

Comments Due: 5 p.m. ET 2/16/18.

Docket Numbers: EG18-39-000.

Applicants: Yankee Street, LLC.

Description: Notice of Self-Certification of Exempt Wholesale Generator Status of Yankee Street, LLC.

Filed Date: 1/26/18.

Accession Number: 20180126-5204.

Comments Due: 5 p.m. ET 2/16/18.

Take notice that the Commission received the following electric rate filings:

Docket Numbers: ER10-2331-069; ER10-2317-059; ER13-1351-041.

Applicants: J.P. Morgan Ventures Energy Corporation, BE CA LLC, Florida Power Development LLC.

Description: Notice of Non-Material Change in Status of the J.P. Morgan Sellers.

Filed Date: 1/29/18.

Accession Number: 20180129-5056.

Comments Due: 5 p.m. ET 2/20/18.

Docket Numbers: ER10-2331-070; ER10-2317-060; ER13-1351-042.

Applicants: J.P. Morgan Ventures Energy Corporation, BE CA LLC, Florida Power Development LLC.

Description: Notice of Non-Material Change in Status of the J.P. Morgan Sellers.

Filed Date: 1/29/18.

Accession Number: 20180129-5060.

Comments Due: 5 p.m. ET 2/20/18.

Docket Numbers: ER10-2674-012; ER15-1596-006; ER15-1598-005; ER15-1599-006; ER14-1569-007; ER15-1600-004; ER15-1602-004; ER10-2619-009; ER15-1603-004; ER10-2616-013; ER15-1605-004; ER11-4400-010; ER15-1958-005; ER15-1606-004; ER15-1607-004; ER15-1608-004; ER10-1547-012; ER14-883-008; ER13-2475-010; ER12-192-013; ER10-1550-013; ER10-1975-021; ER10-2617-008; ER10-2677-012; ER11-4266-014.

Applicants: Calumet Energy Team, LLC, Dynegy Commercial Asset Management, LLC, Dynegy Dicks Creek, LLC, Dynegy Energy Services (East), LLC, Dynegy Energy Services, LLC, Dynegy Fayette II, LLC, Dynegy Hanging Rock II, LLC, Dynegy Kendall Energy, LLC, Dynegy Killen, LLC, Dynegy Marketing and Trade, LLC, Dynegy Miami Fort, LLC, Dynegy Power Marketing, LLC, Dynegy Resources Management, LLC, Dynegy Stuart, LLC, Dynegy Washington II, LLC, Dynegy Zimmer, LLC, Hopewell Cogeneration Limited Partnership, Illinois Power Marketing Company, Kincaid Generation, L.L.C., Liberty Electric Power, LLC, Northeastern Power Company, North Jersey Energy Associates, A Limited Partnership, Ontelaunee Power Operating Company, LLC, Pleasants Energy, LLC, Richland-Stryker Generation LLC.

Description: Notification of Change in Status of the Dynegy PJM MBR Sellers.

Filed Date: 1/26/18.

Accession Number: 20180126-5232.

Comments Due: 5 p.m. ET 2/16/18.

Docket Numbers: ER10-2984-039.

Applicants: Merrill Lynch Commodities, Inc.

Description: Notice of Non-Material Change in Status of Merrill Lynch Commodities, Inc.

Filed Date: 1/29/18.

Accession Number: 20180129-5228.

Comments Due: 5 p.m. ET 2/20/18.

Docket Numbers: ER10-2984-040.

Applicants: Merrill Lynch Commodities, Inc.

Description: Notice of Non-Material Change in Status of Merrill Lynch Commodities, Inc.

Filed Date: 1/29/18.

Accession Number: 20180129-5233.

Comments Due: 5 p.m. ET 2/20/18.

Docket Numbers: ER18-152-002.

Applicants: Otter Tail Power Company.

Description: Compliance filing: Corrected Compliance Filing of Executed Coyote 1 Agreement to be effective 12/24/2017.

Filed Date: 1/26/18.

Accession Number: 20180126-5213.

Comments Due: 5 p.m. ET 2/16/18.

Docket Numbers: ER18-318-001.

Applicants: Virginia Electric and Power Company, PJM Interconnection, L.L.C.

Description: Compliance filing: Dominion submits Revisions to Attachment H-16A in ER18-318-000 to be effective 10/19/2017.

Filed Date: 1/29/18.

Accession Number: 20180129-5099.

Comments Due: 5 p.m. ET 2/20/18.

Docket Numbers: ER18-378-001.

Applicants: Public Service Company of Colorado.

Description: Tariff Amendment: 1/29/2018 Deferral to IREA PPA to be effective 12/31/9998.

Filed Date: 1/29/18.

Accession Number: 20180129-5117.

Comments Due: 5 p.m. ET 2/20/18.

Docket Numbers: ER18-622-001.

Applicants: Midcontinent Independent System Operator, Inc.

Description: Compliance filing: 2018-01-29 Amendment to Order 831 Energy Offer Cap Compliance to be effective 11/1/2018.

Filed Date: 1/29/18.

Accession Number: 20180129-5248.

Comments Due: 5 p.m. ET 2/20/18.

Docket Numbers: ER18-722-000.

Applicants: PJM Interconnection, L.L.C.

Description: § 205(d) Rate Filing: Original WMPA SA No. 4910; Queue No. AC2-161 to be effective 1/5/2018.

Filed Date: 1/29/18.

Accession Number: 20180129-5175.

Comments Due: 5 p.m. ET 2/20/18.

Docket Numbers: ER18-723-000.

Applicants: American Transmission Systems, Incorporation, PJM Interconnection, L.L.C.

Description: § 205(d) Rate Filing: ATSI submits ECSA, Service Agreement No. 4864 with Toledo Edison Company to be effective 4/1/2018.

Filed Date: 1/29/18.

Accession Number: 20180129-5185.

Comments Due: 5 p.m. ET 2/20/18.

Docket Numbers: ER18-724-000.

Applicants: Grid Power Direct, LLC.

Description: Baseline eTariff Filing: Grid Power Direct MBR Application to be effective 3/31/2018.

Filed Date: 1/29/18.

Accession Number: 20180129-5220.

Comments Due: 5 p.m. ET 2/20/18.

Docket Numbers: ER18-725-000.

Applicants: Public Service Company of New Mexico.

Description: § 205(d) Rate Filing: Modifications to NITSA/NOA between PNM and Tri-State to be effective 1/1/2018.

Filed Date: 1/29/18.

Accession Number: 20180129-5249.

Comments Due: 5 p.m. ET 2/20/18.

Docket Numbers: ER18-726-000.

Applicants: Public Service Company of New Mexico.

Description: § 205(d) Rate Filing: Modification to Contract P0695 between PNM and Western to be effective 1/1/2018.

Filed Date: 1/29/18.

Accession Number: 20180129-5293.

Comments Due: 5 p.m. ET 2/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2018.
Nathaniel J. Davis, Sr.,
Deputy Secretary.

[FR Doc. 2018-02225 Filed 2-2-18; 8:45 am]

BILLING CODE 6717-01-P